FEDERAL COMMUNICATIONS COMMISSION

47 CFR Part 73

[DA 05-1146; MB Docket No. 04-387, RM-11083]

Radio Broadcasting Service; Cedarville, CA

AGENCY: Federal Communications Commission.

ACTION: Final rule.

SUMMARY: The Audio Division, at the request of Jeffrey Cotton allots Channel 260A at Cedarville, California, as the community's first local aural transmission service. See 69 FR 61617, published October 20, 2004. Channel 260A can be allotted to Cedarville in compliance with the Commission's minimum distance separation requirements at the center of the community. The reference coordinates for Channel 260A at Cedarville are 41-31-45 North Latitude and 120-10-20 West Longitude. A filing window for Channel 260A at Cedarville, California will not be opened at this time. Instead, the issue of opening a filing window for this channel will be addressed by the Commission in a subsequent order.

DATES: Effective June 13, 2005.

ADDRESSES: Federal Communications Commission, 445 Twelfth Street, SW., Washington, DC 20554.

FOR FURTHER INFORMATION CONTACT: Helen McLean, Media Bureau, (202) 418-2738.

SUPPLEMENTARY INFORMATION: This is a synopsis of the Commission's Report and Order, MB Docket No. 04-387, adopted April 25, 2005, and released April 27, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under California, is amended by adding Cedarville, Channel 260A.

Federal Communications Commission.
John A. Karousos,
Assistant Chief, Audio Division, Media Bureau.

[FR Doc. 05-9814 Filed 5-17-05; 8:45 am]

BILLING CODE 6712-01-P